DEPARTMENT OF ENERGY

Electricity Advisory Committee

AGENCY: Office of Electricity Delivery and Energy Reliability, Department of Energy.

ACTION: Notice of open meeting.

SUMMARY: This notice announces a meeting of the Electricity Advisory Committee. The Federal Advisory Committee Act requires that public notice of these meetings be announced in the Federal Register.

DATES: Wednesday, June 7, 2017, 1:00 p.m.-6:00 p.m. EST, Thursday, June 8, 2017, 8:00 a.m.-3:00 p.m. EST.

ADDRESSES: The meeting will be held at the National Rural Electric Cooperative Association, 4301 Wilson Blvd., Arlington, VA 22203.

FOR FURTHER INFORMATION CONTACT: Matthew Rosenbaum, Office of Electricity Delivery and Energy Reliability, U.S. Department of Energy, Forrestal Building, Room 8G-017, 1000 Independence Avenue SW., Washington, DC 20585; Telephone: (202) 586-1060 or email: matthew.rosenbaum@hq.doe.gov.

SUPPLEMENTARY INFORMATION:

Purpose of the Committee: The Electricity Advisory Committee (EAC) was re-established in July 2010, in accordance with the provisions of the Federal Advisory Committee Act (FACA), as amended, 5 U.S.C., App.2, to provide advice to the U.S. Department of Energy (DOE) in implementing the Energy Policy Act of 2005, executing the Energy Independence and Security Act of 2007, and modernizing the nation's electricity delivery infrastructure. The EAC is composed of individuals of diverse background selected for their technical expertise and experience, established records of distinguished professional service, and their knowledge of issues that pertain to electricity.

Tentative Agenda: The meeting of the EAC is expected to include an update on the programs and initiatives of the DOE's Office of Electricity Delivery and Energy Reliability and the Grid Modernization Laboratory Consortium. The meeting is also expected to include a presentation from the new Administration, as well as panels or presentations with associated discussions on gas-electric integration, power sector vulnerabilities, advances in energy storage for system reliability and resiliency, new applications for storage and microgrids, and regional resiliency and security with bulk storage. Additionally, the meeting is expected to include a discussion of the plans and activities of the Smart Grid Subcommittee, Power Delivery Subcommittee, Energy Storage Subcommittee, and the Grid Modernization Working Group.

Tentative Agenda: June 7, 2017

12:00 p.m.-1:00 p.m. Registration

1:00 p.m.-1:15 p.m. Welcome, Introductions, Developments since the March 2017 Meeting

1:15 p.m.-1:30 p.m. Update on the DOE Office of Electricity Delivery and Energy Reliability's Programs and Initiatives

1:30 p.m.-2:10 p.m. Presentation from New Administration and EAC Discussion

2:10 p.m.-2:45 p.m. Update on the Grid Modernization Laboratory Consortium Program and Initiatives

2:45 p.m.-3:00 p.m. Break

3:00 p.m.-4:30 p.m. Panel Session: Gas-Electric Integration

4:30 p.m.-4:45 p.m. Break

4:45 p.m.-5:00 p.m. EAC Power Delivery Subcommittee Activities and Plans

5:00 p.m.-5:20 p.m. EAC Smart Grid Subcommittee Activities and Plans

5:20 p.m.-5:40 p.m. EAC Energy Storage Subcommittee Activities and Plans

5:40 p.m.-6:00 p.m. Grid Modernization Working Group Activities and Plans

Tentative Agenda: June 8, 2017

8:00 a.m.-8:15 a.m. Welcome: Overview of Energy Storage Session during the EAC June 2017 Meeting

8:15 a.m.-8:45 a.m. Session Scope and Objectives: Overview of Energy Storage and Key Trends

8:45 a.m.-9:45 a.m. Power Sector Vulnerabilities: Panel and Discussion

9:45 a.m.-10:00 a.m. Break

10:00 a.m.-11:15 a.m. Advances in Energy Storage for System Reliability: Panel and Discussion

11:15 a.m.-11:45 a.m. Break for Lunch (not provided)

11:45 a.m.-1:00 p.m. Storage and Microgrids—New Applications: Panel and Discussion

1:00 p.m.-1:30 p.m. Regional Resiliency and Security with Bulk Storage: Presentation and Discussion

1:30 p.m.-2:45 p.m. Takeaways and Key Themes: Facilitated Discussion

2:45 p.m.-2:55 p.m. Public Comments

2:55 p.m.-3:00 p.m. Wrap-up and Adjourn June 2017 Meeting of the EAC

The meeting agenda may change to accommodate EAC business. For EAC agenda updates, see the EAC Web site at: http://energy.gov/oe/services/electricity-advisory-committee-eac.

Public Participation: The EAC welcomes the attendance of the public at its meetings. Individuals who wish to offer public comments at the EAC meeting may do so on Thursday, June 8, 2017, but must register at the registration table in advance. Approximately 10 minutes will be reserved for public comments. Time allotted per speaker will depend on the number who wish to speak but is not expected to exceed three minutes. Anyone who is not able to attend the meeting, or for whom the allotted public comments time is insufficient to address pertinent issues with the EAC, is invited to send a written statement to Mr. Matthew Rosenbaum.

You may submit comments, identified by “Electricity Advisory Committee Open Meeting,” by any of the following methods:

• Mail/Hand Delivery/Courier: Matthew Rosenbaum, Office of Electricity Delivery and Energy Reliability, U.S. Department of Energy, Forrestal Building, Room 8G-017, 1000 Independence Avenue SW., Washington, DC 20585.

• Email: matthew.rosenbaum@hq.doe.gov. Include “Electricity Advisory Committee Open Meeting” in the subject line of the message.

• Federal eRulemaking Portal: http://www.regulations.gov. Follow the instructions for submitting comments.

Instructions: All submissions received must include the agency name and identifier. All comments received will be posted without change to http://energy.gov/oe/services/electricity-advisory-committee-eac, including any personal information provided.

• Docket: For access to the docket, to read background documents or comments received, go to http://energy.gov/oe/services/electricity-advisory-committee-eac.

The following electronic file formats are acceptable: Microsoft Word (.doc), Corel Word Perfect (.wpd), Adobe Acrobat (.pdf), Rich Text Format (.rtf), plain text (.txt), Microsoft Excel (.xls), and Microsoft PowerPoint (.ppt). If you submit information that you believe to be exempt by law from public disclosure, you must submit one complete copy, as well as one copy from which the information claimed to be exempt by law from public disclosure has been deleted. You must also explain the reasons why you believe the deleted information is exempt from disclosure.

DOE is responsible for the final determination concerning disclosure or nondisclosure of the information and for treating it in accordance with the DOE's Freedom of Information regulations (10 CFR 1004.11).

Note: Delivery of the U.S. Postal Service mail to DOE may be delayed by several weeks due to security screening. DOE, therefore, encourages those wishing to comment to submit comments electronically by email. If comments are submitted by regular mail, the Department requests that they be accompanied by a CD or diskette containing electronic files of the submission.

Minutes: The minutes of the EAC meeting will be posted on the EAC Web page at http://energy.gov/oe/services/electricity-advisory-committee-eac. They can also be obtained by contacting Mr. Matthew Rosenbaum at the address above.

Issued in Washington, DC, on May 11, 2017.
LaTanya R. Butler,
Deputy Committee Management Officer.

[FR Doc. 2017-09980 Filed 5-16-17; 8:45 am]

BILLING CODE 6450-01-P